DEPARTMENT OF HOMELAND SECURITY

Coast Guard

[USCG-2005-21258]

National Boating Safety Advisory Council; Vacancies

AGENCY: Coast Guard, DHS.

ACTION: Request for applications.

SUMMARY: The Coast Guard seeks applications for membership on the National Boating Safety Advisory Council (NBSAC). NBSAC advises the Coast Guard on matters related to recreational boating safety.

DATES: Application forms should reach us on or before September 8, 2005.

ADDRESSES: You may request an application form by writing to Commandant, Office of Boating Safety (G-OPB-1), U.S. Coast Guard, 2100 Second Street SW., Washington, DC 20593-0001; by calling 202-267-1077; or by faxing 202-267-4285. Send your application in written form to the above street address. This notice and the application form are available on the Internet at http://dms.dot.gov.

FOR FURTHER INFORMATION CONTACT: Mr. Phil Cappel, Executive Director of NBSAC, telephone 202-267-0988, fax 202-267-4285.

SUPPLEMENTARY INFORMATION: The National Boating Safety Advisory Council (NBSAC) is a Federal advisory committee under 5 U.S.C. App. 2. It advises the Coast Guard regarding regulations and other major boating safety matters. NBSAC's 21 members are drawn equally from the following three sectors of the boating community: State officials responsible for State boating safety programs, recreational boat and associated equipment manufacturers, and national recreational boating organizations and the general public. Members are appointed by the Secretary of the Department of Homeland Security.

NBSAC normally meets twice each year at a location selected by the Coast Guard. When attending meetings of the Council, members are provided travel expenses and per diem.

We will consider applications received in response to this notice for the following seven positions that expire or become vacant in December 2005: Three representatives of State officials responsible for State boating safety programs, two representatives of recreational boat and associated equipment manufacturers, and two representatives of national recreational boating organizations. The positions from the general public are not open for consideration this year. Applicants are considered for membership on the basis of their particular expertise, knowledge, and experience in recreational boating safety. Prior applicants should submit an updated application to ensure consideration for the vacancies announced in this notice. Each member serves for a term of up to 3 years. Some members may serve consecutive terms.

In support of the policy of the U. S. Coast Guard on gender and ethnic diversity, we encourage qualified women and members of minority groups to apply.

Dated: May 16, 2005.
Scott H. Evans,
Captain, U.S. Coast Guard, Acting Director of Operations Policy.

[FR Doc. 05-10422 Filed 5-24-05; 8:45 am]

BILLING CODE 4910-15-P